DEPARTMENT OF ENERGY

Federal Energy Regulatory Commission

Combined Notice of Filings #1

June 10, 2005.

Take notice that the Commission received the following electric rate filings

Docket Numbers: ER02-1398-002, ER02-1470-002, ER02-1573-002.

Applicants: KeySpan-Ravenswood, LLC, KeySpan-Glenwood Energy Center, LLC, KeySpan-Port Jefferson Energy Center, LLC.

Description: KeySpan-Ravenswood, LLC, KeySpan-Glenwood Energy Center, LLC, KeySpan-Port Jefferson Energy Center, LLC submitted a Triennial Market Power Update.

Filed Date: 06/01/2005.

Accession Number: 20050603-0089.

Comment Date: 5 pm Eastern Time on Wednesday, June 22, 2005.

Docket Numbers: ER04-699-000.

Applicants: Entergy Services, Inc.

Description: Entergy Services, Inc. on behalf of the Entergy Operating Companies submits letter withdrawing the proposed revisions to Entergy's OATT filed on April 1, 2004 under ER04-699.

Filed Date: 06/03/2005.

Accession Number: 20050603-5046.

Comment Date: 5 pm Eastern Time on Friday, June 24, 2005.

Docket Numbers: ER05-721-002.

Applicants: Judith Gap Energy LLC.

Description: Judith Gap Energy, LLC submits Substitute Original Tariff Sheet No. 3 its FERC Electric Tariff, Original Volume No. 1 in compliance with the May 25, 2005 order under ER05-721.

Filed Date: 06/01/2005.

Accession Number: 20050603-0087.

Comment Date: 5 pm Eastern Time on Wednesday, June 22, 2005.

Docket Numbers: ER05-842-001.

Applicants: Cleco Power LLC.

Description: Cleco Power, LLC submits a Substitute Second Revised Sheet No. 7, to its FERC Electric Tariff, Second Revised Volume 1.

Filed Date: 06/01/2005.

Accession Number: 20050603-0088.

Comment Date: 5 pm Eastern Time on Wednesday, June 22, 2005.

Docket Numbers: ER05-1070-000.

Applicants: San Diego Gas & Electric Company.

Description: San Diego & Electric Company submits Amendment 1 to the Interconnection Agreement between SDG&E & Termoelectrica de Mexicali, S de R L de C V under ER05-1070.

Filed Date: 06/03/2005.

Accession Number: 20050606-0159.

Comment Date: 5 pm Eastern Time on Friday, June 24, 2005.

Docket Numbers: ER05-1071-000.

Applicants: San Diego Gas & Electric Company.

Description: San Diego Gas & Electric Company submits Amendment 1 to the Interconnection Agreement with Baja California Power, Inc, under ER05-1071.

Filed Date: 06/03/2005.

Accession Number: 20050606-0160.

Comment Date: 5 pm Eastern Time on Friday, June 24, 2005.

Docket Numbers: ER05-1072-000.

Applicants: American Electric Power Service Corporation.

Description: American Electric Power Service Corporation as agent for Public Service Company of Oklahoma submits a notice of cancellation of an amended interchange agreement among Associated Electric Cooperative, Inc., Kansas Gas and Electric Company, Public Service Company of Oklahoma, Union Electric Company for Missouri-Kansas-Oklahoma 345k Interconnection Agreement.

Filed Date: 06/03/2005.

Accession Number: 20050606-0161.

Comment Date: 5 pm Eastern Time on Friday, June 24, 2005.

Docket Numbers: ER05-1073-000.

Applicants: Florida Power & Light Company.

Description: Florida Power & Light Company submits Second Revised Service Agreement 162, a Service Agreement for Network Integration Transmission Service with Seminole Electric Cooperative, Inc.

Filed Date: 06/03/2005.

Accession Number: 20050606-0156.

Comment Date: 5 pm Eastern Time on Friday, June 24, 2005.

Docket Numbers: ER05-1074-000.

Applicants: Sierra Pacific Power Company.

Description: Sierra Pacific submits an executed Large Generator Interconnection Agreement with FPL Energy Boulder Valley LLC under ER05-1074.

Filed Date: 06/03/2005.

Accession Number: 20050606-0164.

Comment Date: 5 pm Eastern Time on Friday, June 24, 2005.

Docket Numbers: ER05-1075-000.

Applicants: Pacific Gas and Electric Company.

Description: Pacific Gas & Electric Company submits revised FERC Rate Schedules with the City & County of San Francisco under ER05-1075.

Filed Date: 06/03/2005.

Accession Number: 20050607-0142.

Comment Date: 5 pm Eastern Time on Friday, June 24, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive email notification when a document is added to a subscribed dockets(s). For assistance with any FERC Online service, please email FERCOnlinSupport@ferc.gov. or call (866) 208-3676 (toll free). For TTY, call (202) 502-8659.

Linda Mitry,
Deputy Secretary.

[FR Doc. E5-3130 Filed 6-16-05; 8:45 am]

BILLING CODE 6717-01-P